ENVIRONMENTAL PROTECTION AGENCY

40 CFR Part 52

[EPA-R04-OAR-2022-0202; FRL-10511-02-R4]

Air Plan Approval; Georgia; Murray County Area Limited Maintenance Plan for the 1997 8-hour Ozone NAAQS

AGENCY: Environmental Protection Agency (EPA).

ACTION: Final rule.

SUMMARY: The Environmental Protection Agency (EPA) is finalizing approval of a state implementation plan (SIP) revision submitted by the State of Georgia, through the Georgia Environmental Protection Division (EPD), on October 20, 2021. The SIP revision includes the 1997 8-hour ozone national ambient air quality standards (NAAQS) Limited Maintenance Plan (LMP) for the portion of Murray County, Georgia, previously designated nonattainment for the 1997 8-hour ozone NAAQS (hereinafter referred to as the Murray County 1997 8-hour NAAQS Area or Murray County Area or Area). EPA is finalizing approval because the Murray County Area LMP provides for the maintenance of the 1997 8-hour ozone NAAQS within the Murray County Area through the end of the second 10-year portion of the maintenance period. This action makes certain commitments related to maintenance of the 1997 8-hour ozone NAAQS in the Murray County Area federally enforceable as part of the Georgia SIP.

DATES: This rule is effective March 9, 2023.

ADDRESSES: EPA has established a docket for this action under Docket Identification No. EPA-R04-OAR-2022-0202. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that, if at all possible, you contact the person listed in the FOR FURTHER INFORMATION CONTACT section to schedule your inspection. The Regional Office's official hours of business are Monday through Friday 8:30 a.m. to 4:30 p.m., excluding Federal holidays.

FOR FURTHER INFORMATION CONTACT: Tiereny Bell, Air Regulatory Management Section, Air Planning and Implementation Branch, Air and Radiation Division, U.S. Environmental Protection Agency, Region 4, 61 Forsyth Street SW, Atlanta, Georgia 30303-8960. The telephone number is (404) 562-9088. Ms. Bell can also be reached via electronic mail at bell.tiereny@epa.gov.

SUPPLEMENTARY INFORMATION:

I. Background

In accordance with the Clean Air Act (CAA or Act), EPA is approving the Murray County Area LMP for the 1997 8-hour ozone NAAQS, adopted by Georgia EPD on October 12, 2021, and submitted by Georgia EPD as a revision to the Georgia SIP on October 20, 2021. On 30, 2004, the Murray County Area was designated as nonattainment for the 1997 8-hour ozone NAAQS, effective June 15, 2004.¹ See 69 FR 23858 (April 30, 2004). Subsequently, in 2007 the Area was redesignated to attainment for the 1997 8-hour ozone NAAQS with EPA's approval of the first 10-year maintenance plan, which was designed to keep the Area in attainment through 2017. See 72 FR 58538 (October 16, 2007). The Murray County LMP is designed to maintain the 1997 8-hour ozone NAAQS within the Murray County Area through the end of the second 10-year portion of the maintenance period beyond redesignation.

¹ The Murray County 1997 8-hour NAAQS Area is located entirely within the Chattahoochee National Forest area of Murray County, Georgia. The Area consists of all mountain peaks within the Chattahoochee National Forest with an elevation greater than or equal to 2,400 feet and that are enclosed by contour lines that close on themselves.

EPA is finalizing approval of the plan because it meets all applicable requirements under CAA sections 110 and 175A. As a general matter, the Murray County Area LMP relies on the same control measures and contingency provisions to maintain the 1997 8-hour ozone NAAQS during the second 10-year portion of the maintenance period as the maintenance plan submitted by Georgia EPD for the first 10-year period.

In a notice of proposed rulemaking (NPRM), published on December 23, 2022 (87 FR 78902), EPA proposed to approve the Murray County Area LMP because the State made a showing, consistent with EPA's prior LMP guidance, that the Murray County Area's ozone concentrations are well below the 1997 8-hour ozone NAAQS and have been historically stable and that the Area has met all other maintenance plan requirements. The details of Georgia's submission, as well as EPA's rationale, are explained further in the December 23, 2022, NPRM. Comments on the December 23, 2022, NPRM were due on or before January 23, 2023. No comments were received on the December 23, 2022, NPRM, adverse or otherwise.

II. Final Action

In accordance with sections 110(k) and 175A of the CAA, and for the reasons set forth in the December 23, 2022, NPRM, EPA is finalizing the Murray County Area LMP for the 1997 8-hour ozone NAAQS, as submitted by Georgia EPA on October 20, 2021. EPA is finalizing approval of the Murray County Area LMP because it includes an acceptable update of various elements of the 1997 8-hour ozone NAAQS Maintenance Plan approved by EPA for the first 10-year period (including emissions inventory, assurance of adequate monitoring and verification of continued attainment, and contingency provisions), and retains the relevant provisions of the SIP. EPA also finds that the Murray County Area qualifies for the LMP option and that the Area's LMP adequately demonstrates maintenance of the 1997 8-hour ozone NAAQS through documentation of monitoring data showing maximum 1997 8-hour ozone levels well below the NAAQS and continuation of existing control measures. EPA believes that the Area's 1997 8-Hour Ozone LMP is sufficient to provide for maintenance of the 1997 8-hour ozone NAAQS in the Murray County Area over the second 10-year maintenance period, through 2027, and thereby satisfies the requirements for such a plan under CAA section 175A(b).

III. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose information collection burdens under the provisions of the Paperwork Reduction Act (44 U.S.C. 3501 et seq.);

• Is certified as not having significant economic impacts on a substantial number of small entities under the Regulatory Flexibility Act (5 U.S.C. 601 et seq.);

• Does not contain any unfunded mandates or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

This SIP revision is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing these actions and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 10, 2023. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Incorporation by reference, Intergovernmental relations, Nitrogen oxides, Ozone, Reporting and recordkeeping requirements, Volatile organic compounds.

Dated: January 31, 2023.
Daniel Blackman,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart L—Georgia

2. In § 52.570(e), amend the table by adding an entry for “1997 8-hour Ozone 2nd Maintenance Plan (Limited Maintenance Plan) for the Murray County Area” at the end of the table to read as follows:

§ 52.570 Identification of plan.

* * * * *

(e) * * *

EPA-Approved Georgia Non-Regulatory Provisions
Name of nonregulatory SIP provision | Applicable geographic or nonattainment area | State submittal date/ effective date | EPA approval date | Explanation
* * * * * * *
1997 8-hour Ozone 2nd Maintenance Plan (Limited Maintenance Plan) for the Murray County Area | Murray County Area | 10/20/2021 | 2/7/2023, [Insert citation of publication]

[FR Doc. 2023-02416 Filed 2-6-23; 8:45 am]

BILLING CODE 6560-50-P